DEPARTMENT OF TRANSPORTATION

National Highway Traffic Safety Administration

[Docket No. NHTSA-2003-16656; Notice 2]

Hyundai America Technical Center, Inc., Grant of Petition for Decision of Inconsequential Noncompliance

Hyundai America Technical Center, Inc. (Hyundai), has determined that the rims on certain vehicles that it produced in 2000 through 2003 do not comply with S5.2(a) and S5.2(c) of 49 CFR 571.120, Federal Motor Vehicle Safety Standard (FMVSS) No. 120, “Tire selection and rims for motor vehicles other than passenger cars.” Pursuant to 49 U.S.C. 30118(d) and 30120(h), Hyundai has petitioned for an exemption from the notification and remedy requirements of 49 U.S.C. chapter 301 on the basis that this noncompliance is inconsequential to motor vehicle safety. Notice of receipt of Hyundai's petition was published, with a 30 day comment period, on December 15, 2003, in the Federal Register (68 FR 69768). NHTSA received no comments.

S5.2 of FMVSS 120 requires that each rim be marked with certain information on the weather side, including S5.2(a): A designation which indicates the source of the rim's published nominal dimensions, and S5.2(c): the symbol DOT. Hyundai produced approximately 250,348 model year 2001, 2002, 2003 and 2004 Hyundai Santa Fe 4 door multipurpose passenger vehicles between March 31, 2000 and October 1, 2003, with rims that do not contain the markings required by S5.2(a) or S5.2(c).

According to Hyundai, the affected rims, 6.5J x 16” aluminum alloy, are commonly available and utilized in the United States. They are a correct specification for mounting the P225/70R16 tires specified for all Santa Fe models, and are capable of carrying the GVWR of the vehicle. Hyundai states that no accidents or injuries have occurred, and no customer complaints have been received, related to the lack of the markings or any problem that may have resulted from the lack of the markings. Hyundai further states that the missing markings do not affect the performance of the wheels or the tire and wheel assemblies.

NHTSA agrees that the noncompliance is inconsequential to motor vehicle safety. The rims are marked in compliance with S5.2(b) rim size designation; S5.2(d) manufacturer identification; and S5.2(e) month, day and year or month and year of manufacture. The rims are also marked with the Hyundai part number. The tire size is marked on the tire sidewalls, and the owner's manual and tire inflation pressure label contain the appropriate tire size to be installed on the original equipment rims. Therefore, there is little likelihood of a tire and rim mismatch as a result of the missing rim markings. With regard to the omission of the “DOT” symbol, the agency regards the noncompliance with paragraph S5.2(c) as a failure to comply with the certification requirements of 49 U.S.C. 30115, and not a compliance failure requiring notification and remedy.

In consideration of the foregoing, NHTSA has decided that the petitioner has met its burden of persuasion that the noncompliance described is inconsequential to motor vehicle safety. Accordingly, Hyundai's petition is granted and the petitioner is exempted from the obligation of providing notification of, and a remedy for, the noncompliance.

Authority: 49 U.S.C. 30118, 30120; delegations of authority at CFR 1.50 and 501.8.

Kenneth N. Weinstein,
Associate Administrator for Enforcement.

[FR Doc. 04-5743 Filed 3-12-04; 8:45 am]

BILLING CODE 4910-59-P